DEPARTMENT OF TRANSPORTATION

Federal Aviation Administration

NextGen Advisory Committee (NAC); Notice of Public Meeting

AGENCY: Federal Aviation Administration (FAA), Department of Transportation (DOT).

ACTION: Notice of public meeting.

SUMMARY: This notice announces a meeting of the NextGen Advisory Committee (NAC).

DATES: The meeting will be held on December 12, 2019, from 9:00 a.m.-12:30 p.m. EST.

Requests to attend the meeting in person must be received by December 3, 2019.

Requests to listen-only by telephone must be received by December 3, 2019.

Requests for accommodations to a disability must be received by December 3, 2019.

Anyone who wishes to speak during the meeting must be received by December 3, 2019, along with a written copy of the remarks to be delivered.

Requests to submit written materials to be reviewed by the NAC must be received no later than December 6, 2019, along with a copy of such written materials.

ADDRESSES: The meeting will be held at The MITRE Corporation, MITRE 1 Building Conference Center: 7525 Colshire Drive, McLean, VA 22102. Emails related to registration for attending the meeting should be sent to 9-AWA-ANG-NACRegistration@faa.gov. Information on the committee, including copies of the meeting minutes, will be available on the NAC internet website at https://www.faa.gov/about/office_org/headquarters_offices/ang/nac/.

FOR FURTHER INFORMATION CONTACT: Greg Schwab, NAC Coordinator, U.S. Department of Transportation, at gregory.schwab@faa.gov or 202-267-1201. Any requests or questions not regarding attendance registration should be sent to the person listed in this section.

SUPPLEMENTARY INFORMATION:

I. Background

The NAC was created under the Federal Advisory Committee Act (FACA), in accordance with the provisions of the FACA as amended (Pub. L. 92-463, 5 U.S.C. App 2), to provide independent advice and recommendations to the FAA and to respond to specific taskings received directly from the FAA. The NAC recommends consensus-driven advice for FAA consideration relating to Air Traffic Management System modernization.

II. Agenda

At the December 12, 2019 meeting, the agenda will cover the following topics:

• NAC Chairman's Report

• FAA Report

• NAC Subcommittee Chairman's Report:

○ Multiple Runway Operations, Data Communications, Performance Based Navigation, Surface and Data Sharing, and Northeast Corridor

• NAC Chairman Closing Comments

III. Public Participation

The meeting will be open to the public on a first come, first served basis, as space is limited. Members of the public who wish to attend in-person are asked to register via email by submitting your full legal name, country of citizenship, and name of your industry association, or applicable affiliation, to 9-AWA-ANG-NACRegistration@faa.gov. For Foreign National attendees, please also provide your company/organization country.

Individuals requiring accessibility accommodations, such as sign language, interpretation, or other ancillary aids, may request by contacting the person listed under the heading FOR FURTHER INFORMATION CONTACT.

For members of the public who wish to listen-only by telephone, provide your full name, company/organization you are representing, title/position, and contact information (telephone number and email address) to 9-AWA-ANG-NACRegistration@faa.gov and you will be provided the teleconference call-in number and passcode. Callers are responsible for paying associated long-distance charges.

With prior approval of the NAC Chair, members of the public may present oral statements at the meeting. To accommodate as many speakers as possible, the time for each is limited to two minutes. Individuals wishing to reserve speaking time during the meeting must submit a request at the time of registration. Speakers are required to submit a copy of their prepared remarks for inclusion in the meeting records and for circulation to NAC members to the person listed under the heading FOR FURTHER INFORMATION CONTACT. All prepared remarks submitted on time will be considered as part of the record.

Persons who wish to only submit written comments to the NAC may do so. All written comments submitted to the person listed under the heading FOR FURTHER INFORMATION CONTACT in time will be reviewed and considered for inclusion as part of the record. Comments received after the due date will be distributed to the members but may not be reviewed prior to the meeting.

Dated: November 20, 2019.
Tiffany Ottilia McCoy,
General Engineer, NextGen Office of Collaboration and Messaging, ANG-M, Office of the Assistant Administrator for NextGen, Federal Aviation Administration.

[FR Doc. 2019-25484 Filed 11-22-19; 8:45 am]

BILLING CODE P